DEPARTMENT OF JUSTICE

[OMB Number 1122-0NEW]

Agency Information Collection Activities Proposed eCollection eComments Requested; New Collection; Optional Flexible Financial Assistance Survey

AGENCY: Office on Violence Against Women, Department of Justice.

ACTION: 60-Day notice.

SUMMARY: The Department of Justice (DOJ), Office on Violence Against Women will be submitting the following information collection request to the Office of Management and Budget (OMB) for review and approval in accordance with the Paperwork Reduction Act of 1995.

DATES: Comments are encouraged and will be accepted for 60 days until October 22, 2024.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov or United States Department of Justice, Office on Violence Against Women, 145 N Street NE, 4W-218, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW)'s Congressional Appropriations for FYs 2023 and 2024 include a combined $88,000,000 for “an initiative to provide financial assistance to victims, including evaluating the effectiveness of funded projects.” OVW anticipates issuing grant awards under this initiative in FY 2024, supporting flexible financial assistance programming. The planned data collection is a short, optional survey that grant recipients under the Financial Assistance Program will make available to victims who receive flexible financial assistance. Grantees will include aggregated survey results in their twice-annual performance reports submitted to OVW. These data will be used to inform future programming and share information to stakeholders, including Congress, about the effectiveness of OVW-funded financial assistance for victims.

Overview of This Information Collection

1. Type of Information Collection: New collection.

2. The Title of the Form/Collection: Optional Flexible Financial Assistance Survey.

3. The agency form number, if any, and the applicable component of the Department sponsoring the collection: Form Number: 1122-XXXX. U.S. Department of Justice, Office on Violence Against Women.

4. Affected public who will be asked or required to respond, as well as the obligation to respond: Affected Public—The affected public includes grantees under OVW's Financial Assistance Program and recipients of flexible financial assistance distributed by those grantees. The survey is optional.

5. An estimate of the total number of respondents and the amount of time estimated for an average respondent to respond: It is estimated that it will take the approximately 7,500 respondents approximately 10 minutes to complete the optional survey.

6. An estimate of the total annual burden (in hours) associated with the collection: The total annual hour burden to complete the data collection forms is 1,250 hours. OVW anticipates that is 15 grantees will administer this survey to an annual average of 500 people who receive flexible financial assistance. Five-hundred participants each at 15 sites totals 7,500 people completing the survey each year. If it takes 10 minutes to complete the survey, then that is 75,000 minutes annually, which is 1,250 hours.

7. An estimate of the total annual cost burden associated with the collection, if applicable:

Activity | Estimated number of respondents | Frequency | Total annual responses | Time per response (minutes) | Total annual burden (hours)
Flexible Financial Assistance Survey | 7,500 | 1 time per recipient | 7,500 | 10 | 1,250
Unduplicated Totals | 7,500 | 1 time | 1 time | 10 | 1,250

If additional information is required contact: Darwin Arceo, Department Clearance Officer, United States Department of Justice, Justice Management Division, Policy and Planning Staff, Two Constitution Square, 145 N Street NE, 4W-218, Washington, DC 20530.

Dated: August 19, 2024.
Darwin Arceo,
Department Clearance Officer for PRA, U.S. Department of Justice.

[FR Doc. 2024-18899 Filed 8-22-24; 8:45 am]

BILLING CODE 4410-FX-P